FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 201251-001.

Agreement Name: Hapag-Lloyd/Maersk Line Slot Exchange Agreement.

Parties: Hapag Lloyd AG and Maersk Line A/S.

Filing Party: Wayne Rohde; Cozen O'Connor.

Synopsis: The amendment provides for the on-going chartering of space in addition to the existing exchange of space under the Agreement.

Proposed Effective Date: 4/8/2019.

Location: https://www2.fmc.gov/FMC.Agreements.Web/Public/AgreementHistory/10190.

Dated: February 22, 2019.
Rachel Dickon,
Secretary.

[FR Doc. 2019-03458 Filed 2-27-19; 8:45 am]

BILLING CODE 6731-AA-P